DEPARTMENT OF THE INTERIOR

Bureau of Reclamation

Central Valley Project Long-Term Water Service Contract Renewals—American River Division

AGENCY: Bureau of Reclamation, Interior.

ACTION: Notice of availability of the draft environmental impact statement (EIS).

SUMMARY: Pursuant to the National Environmental Policy Act (NEPA) of 1969 (as amended), the Bureau of Reclamation (Reclamation), as lead Federal agency, has made available for public review and comment a Draft EIS for the Central Valley Project Long-Term Water Service Contract Renewals—American River Division. The Draft EIS describes and presents the environmental effects of four alternatives, including no action, for renewal of water service contracts to American River Division contractors that include; the City of Roseville, East Bay Municipal District, El Dorado Irrigation District, Placer County Water Agency, Sacramento County Water Agency, Sacramento Municipal Utilities District, and San Juan Water District.

DATES: Written comments on the Draft EIS will be accepted on or before March 21, 2005.

ADDRESSES: Send comments on the Draft EIS to Mr. David Robinson, Bureau of Reclamation, American River Division LTCR, 7794 Folsom Dam Road, Folsom, CA 95630-1799.

Copies of the Draft EIS may be requested from Ms. Sammie Cervantes, Bureau of Reclamation, 2800 Cottage Way, Sacramento, CA 95825 or by calling 916-978-5104, TDD 916-978-5608. See Supplementary Information section for locations where copies of the Draft EIS are available for public review.

FOR FURTHER INFORMATION CONTACT: David Robinson, Environmental Specialist, Bureau of Reclamation, at 916-989-7179, TDD 916-989-7285.

SUPPLEMENTARY INFORMATION: The Draft EIS will address impacts related to renewal of long-term water service contracts delivering Central Valley Project water for irrigation and municipal and industrial uses to seven districts in the American River Division. The Draft EIS will describe and analyze the effects of contract renewals on fish resources, vegetation and wildlife, hydrology and water quality, recreation, visual and cultural resources, land use, geology and soils, traffic and circulation, air quality, noise, and hazards and hazardous materials.

Copies of the Draft EIS are available for public review at the following locations:

• Bureau of Reclamation, Denver Office Library, Building 67, Room 167, Denver Federal Center, 6th and Kipling, Denver, CO 80225, 303-445-2072;

• Bureau of Reclamation, Office of Public Affairs, 2800 Cottage Way, Sacramento, CA 95825-1898, 916-978-5100;

• Bureau of Reclamation, Central California Area Office, 7794 Folsom Dam Road, Folsom, CA 95630, 916-988-1707;

• Natural Resources Library, U.S. Department of the Interior, 1849 C Street NW., Main Interior Building, Washington, DC 20240-0001.

Reclamation's practice is to make comments including names and home addresses of respondents available for public review. Individual respondents may request that we withhold their home address from public disclosure, which will be honored to the extent allowable by law. There may be circumstances in which a respondent's identity may also be withheld from public disclosure, as allowable by law. If you wish to have your name and/or address withheld, you must state this prominently at the beginning of your comment. All submissions from organizations or businesses, and from individuals identifying themselves as representatives or officials of organizations or businesses, will be made available for public disclosure in their entirety.

Dated: August 24, 2004.
Kirk C. Rodgers,
Regional Director, Mid-Pacific Region.

[FR Doc. 05-1043 Filed 1-18-05; 8:45 am]

BILLING CODE 4310-MN-P